DEPARTMENT OF TRANSPORTATION

Federal Motor Carrier Safety Administration

[Docket No. FMCSA-2010-0022]

Parts and Accessories Necessary for Safe Operation; Brakes; Application for Exemption From Innovative Electronics

AGENCY: Federal Motor Carrier Safety Administration (FMCSA), DOT.

ACTION: Notice of application for exemption; request for comments.

SUMMARY: FMCSA requests public comment on an application for exemption from Innovative Electronics regarding the use of trailer-mounted electric brake controllers, which monitor and actuate trailer brakes based on inertial forces developed in response to the braking action of the towing vehicle. While trailer-mounted electric brake controllers function like an electric surge brake, the Federal Motor Carrier Safety Regulations (FMCSRs) define a surge brake as a “self-contained, permanently closed hydraulic brake system” [Emphasis added.] As such, the use of trailer-mounted electric brake controllers on commercial motor vehicles is currently prohibited. Innovative Electronics is requesting a temporary exemption in advance of petitioning FMCSA for rulemaking to modify the current definition of a surge brake.

DATES: Comments must be received on or before March 14, 2011.

ADDRESSES: You may submit comments identified by DOT DMS Docket Number FMCSA-2010-0022 by any of the following methods:

• Web site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, New Jersey Avenue, SE., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self addressed, stamped envelope or postcard or print the acknowledgement page that appears after submitting comments online.

FOR FURTHER INFORMATION CONTACT: Mr. Luke W. Loy, Vehicle and Roadside Operations Division, Office of Bus and Truck Standards and Operations, MC-PSV, (202) 366-0676; Federal Motor Carrier Safety Administration, 1200 New Jersey Avenue, SE., Washington, DC 20590-0001.

SUPPLEMENTARY INFORMATION:

Background

Section 4007 of the Transportation Equity Act for the 21st Century (TEA- 21) [Pub. L. 105-178, June 9, 1998, 112 Stat. 107, 401] amended 49 U.S.C. 31315 and 31136(e) to provide authority to grant exemptions from many of the Federal Motor Carrier Safety Regulations (FMCSRs). On August 20, 2004, FMCSA published a final rule implementing section 4007 (69 FR 51589). Under this rule, FMCSA must publish a notice of each exemption request in the Federal Register (49 CFR 381.315(a)). The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305). The decision of the Agency must be published in the Federal Register (49 CFR 381.315(b)). If the Agency denies the request, it must state the reason for doing so. If the decision is to grant the exemption, the notice must specify the person or class of persons receiving the exemption and the regulatory provision or provisions from which an exemption is granted. The notice must also specify the effective period of the exemption (up to 2 years) and explain the terms and conditions of the exemption. The exemption may be renewed (49 CFR 381.315(c) and 381.300(b)).

Background

On October 7, 2005, in response to a petition for rulemaking submitted by the Surge Brake Coalition (“the Coalition”), FMCSA published a notice of proposed rulemaking (NPRM) to allow the use of surge-braked trailers in interstate commerce (70 FR 58657). On March 6, 2007, FMCSA published a final rule revising the FMCSRs to allow the use of automatic hydraulic inertia brake systems (surge brakes) on commercial trailers when the ratios of gross vehicle weight ratings (GVWR) for the towing vehicle and trailer are within certain limits (72 FR 9855).

A surge brake is defined in 49 CFR 393.5 as “A self-contained, permanently closed hydraulic brake system for trailers that relies on inertial forces, developed in response to the braking action of the towing vehicle, applied to a hydraulic device mounted on or connected to the tongue of the trailer, to slow down or stop the towed vehicle.”

The March 2007 final rule established the requirements for surge brakes as follows:

393.48(d) Surge brakes. (1) Surge brakes are allowed on:

(d)(1)(i) Any trailer with a gross vehicle weight rating (GVWR) of 12,000 pounds or less, when its GVWR does not exceed 1.75 times the GVWR of the towing vehicle; and

(d)(1)(ii) Any trailer with a GVWR greater than 12,000 pounds, but less than 20,001 pounds, when its GVWR does not exceed 1.25 times the GVWR of the towing vehicle.

(d)(2) The gross vehicle weight (GVW) of a trailer equipped with surge brakes may be used instead of its GVWR to calculate compliance with the weight ratios specified in paragraph (d)(1) of this section when the trailer manufacturer's GVWR label is missing.

(d)(3) The GVW of a trailer equipped with surge brakes must be used to calculate compliance with the weight ratios specified in paragraph (d)(1) of this section when the trailer's GVW exceeds its GVWR.

(d)(4) The surge brakes must meet the requirements of § 393.40.

393.49 Control valves for brakes.

(c) Surge brake exception. This requirement is not applicable to trailers equipped with surge brakes that satisfy the conditions specified in 393.48(d).

Innovative Electronics' Application for Exemption

On March 30, 2010, Innovative Electronics applied for an exemption from 49 CFR 393.48(a) and 49 CFR 393.49(a) to allow commercial motor vehicles to tow trailers equipped with trailer-mounted electric brake controllers. A copy of the application is included in the docket referenced at the beginning of this notice.

In its application, Innovative Electronics states:

Electric brakes have been used on commercial trailers for a long period of time; however each tow vehicle must currently be equipped with a brake controller in the towing vehicle which applies the trailer brakes when the driver applies the towing vehicle's brakes. Tow vehicle brake controllers are usually aftermarket devices which are manually adjustable to increase or decrease the amount of electric brake force applied to the trailer wheels to adjust for wet or dry road conditions and loaded or unloaded trailer condition. Electric brakes on commercial trailers will not operate unless the tow vehicle has a brake controller.

Technology developments in electronics have allowed the development of a self contained electric brake control device that is mounted directly to the trailer enabling it to monitor and actuate the brakes based on inertial forces developed in response to the braking action of the towing vehicle. The device is essentially an electric surge brake controller, with the electric power for the brakes provided by the tow vehicle, but the braking action of the trailer is controlled by the electronic controller mounted on the trailer. A trailer using this trailer mounted electronic brake controller does not meet the “operative at all times” requirement of 49 CFR 393.48 and the brakes do not meet the “apply by a single application valve” requirement of 49 CFR 393.49. Innovative Electronics and other electric surge brake controller manufactures have identified potential significant market penetration in commercial trailers equipped with electric brakes. Consequently, Innovative Electronics is requesting this exemption for all commercial motor vehicles as defined in § 390.5, for a period of 2 years.

Innovative Electronics requests that the standards for hydraulic surge brakes in 393.48(d) and 393.49(c) be applied to the temporary exemption, i.e., substituting “trailer mounted electric brake controller” for “surge brake” as follows:

(1) Trailer-mounted electric brake controllers are allowed on:

(i) Any trailer with a gross vehicle weight rating (GVWR) of 12,000 pounds or less, when its GVWR does not exceed 1.75 times the GVWR of the towing vehicle; and

(ii) Any trailer with a GVWR greater than 12,000 pounds, but less than 20,001 pounds, when its GVWR does not exceed 1.25 times the GVWR of the towing vehicle.

(2) The gross vehicle weight (GVW) of a trailer equipped with a trailer-mounted electric brake controller may be used instead of its GVWR to calculate compliance with the weight ratios specified in paragraph (d)(1) of this section when the trailer manufacturer's GVWR label is missing.

(3) The GVW of a trailer equipped with a trailer-mounted electric brake controller must be used to calculate compliance with the weight ratios specified in paragraph (d)(1) of this section when the trailer's GVW exceeds its GVWR.

(4) The trailer equipped with a trailer-mounted electric brake controller must meet the requirements of § 393.40.

Control valves for brakes.

(1) Trailer-mounted electric brake controller exception. This requirement is not applicable to trailers equipped with trailer-mounted electric brake controllers that satisfy the conditions specified in 393.48(d).

Without this exemption, commercial vehicle operators who tow trailers equipped with electric brakes must continue to purchase and install aftermarket trailer brake controls in each tow vehicle which may be used to tow a commercial trailer equipped with electric brakes. Similarly, rental companies will be prevented from renting trailers equipped with electric brakes to commercial customers whose tow vehicles are not equipped with electric brake controllers, although they can rent such trailers to a customer for non-commercial use.

Innovative Electronics has provided limited test data showing that the trailer-mounted electronic brake controller appears to meet the braking performance requirements of 49 CFR 393.52(d). These test data have been included in the docket referenced at the beginning of this notice. Innovative Electronics' trailer-mounted electric brake controllers are currently available for non-commercial use trailers. The use of trailers equipped with electric brakes is currently allowed, and the brake performance of trailers equipped with the trailer-mounted controller appears to be at least as good as the performance of a tow vehicle equipped with a trailer brake controller. Trailer-mounted electric brake controllers offer the advantage of continuous electronic sensing of the braking forces acting on the trailer by the tow vehicle, thus eliminating the over-application of the trailer brakes in wet or icy conditions and continuously adjusting the application of the trailer brakes to variations in trailer weight; this is not possible when relying on the crude manual adjustments available on most in-cab tow vehicle brake controllers.

For the reasons stated above, Innovative Electronics requests that motor carriers be permitted to use trailer-mounted electronic brake controllers, which would eliminate the requirement for each individual tow vehicle to be equipped with an electronic brake controller. Innovative Electronics is making this request because it believes the use of trailer-mounted electronic brake controllers will maintain a level of safety that is equivalent to the level of safety achieved without the exemption.

FMCSA notes that, in comments submitted to the 2005 NPRM, the Coalition stated that surge brake technology had evolved since its petition was originally submitted, and suggested that the definition of surge brakes may someday require modification. For example, the Coalition noted that non-hydraulic surge brake systems had been developed and were entering the marketplace in Europe. The Coalition proposed that FMCSA consider deleting “permanently closed hydraulic” and the adjective `hydraulic' from the definition of surge brakes as proposed in the NPRM to eliminate any future design restrictions or the need for further rulemaking petitions.

FMCSA responded in the March 2007 final rule, stating that “No data are available to the Agency regarding the performance of other surge brake technologies to support the Coalition's request to remove the word `hydraulic' from the definition of surge brake. If the Coalition wishes to make such data available to FMCSA, a modification of this definition may be evaluated.”

Request for Comments

In accordance with 49 U.S.C. 31315 and 31136(e), FMCSA requests public comment from all interested persons on Innovative Electronics' application for an exemption from 49 CFR 393.48(a) and 49 CFR 393.49(a). All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Issued on: February 4, 2011.
Larry W. Minor,
Associate Administrator for Policy.

[FR Doc. 2011-2985 Filed 2-9-11; 8:45 am]

BILLING CODE 4910-EX-P